DEPARTMENT OF COMMERCE

International Trade Administration

National Institute of Standards and Technology; Notice of Decision on Application for Duty-Free Entry of Scientific Instrument

Correction

In notice document 00-24187 appearing on page 56869 in the issue of Wednesday, September 20, 2000, make the following correction:

On page 56869, in the third column, in the seventh line, “8×10¹¹” should read “8×10⁻¹¹”.

[FR Doc. C0-24187 Filed X-XX-00; 8:45 am]

BILLING CODE 1505-01-D

DEPARTMENT OF ENERGY

Federal Energy Regulatory Commission

[Docket Nos. ER00-213-002 and EL00-22-002]

The Cincinnati Gas & Electric Company; Notice of Filing

Correction

In notice document 00-24513 appearing on page 57596 in the issue of Monday, September 25, 2000, the docket line should read as set forth above.

[FR Doc. C0-24513 Filed 10-2-00; 8:45 am]

BILLING CODE 1505-01-D

DEPARTMENT OF ENERGY

Federal Energy Regulatory Commission

[Docket No. ER00-1-003, et al.]

TransEnergie U.S., et al.; Electric Rate and Corporate Regulation Filings

Correction

In notice document 00-23065 beginning on page 54514 in the issue of Friday, September 8, 2000, make the following correction:

On page 54515, in the first column, under the heading 9. PPL Montour, LLC, “[Docket No. ER00-3032-000]” should read “[Docket No. ER00-3032-001]”.

[FR Doc. C0-23065 Filed 10-2-00; 8:45 am]

BILLING CODE 1505-01-D

ENVIRONMENTAL PROTECTION AGENCY

[FRL-6871-7]

Draft Guidance Document for Nutrient Trading in the Chesapeake Bay

Correction

In notice document 00-24044 beginning on page 56576 in the issue of Tuesday, September 19, 2000, make the following correction:

On page 56576, in the third column, twelve lines from the bottom, the web address was misspelled and is corrected below:

http://www.chesapeakebay.net

[FR Doc. C0-24044 Filed 10-2-00; 8:45 am]

BILLING CODE 1505-01-D

SECURITIES AND EXCHANGE COMMISSION

[Release No. 34-43229; File No. SR-Amex-00-51]

Self-Regulatory Organizations; Notice of Filing and Order Granting Accelerated Approval to Proposed Rule Change by the American Stock Exchange LLC To Extend for an Additional 90 Days Its Pilot Program Relating to Facilitation Cross Transactions

August 30, 2000.

Correction

In notice document 00-23028 beginning on page 54572 in the issue of Friday, September 8, 2000, the date is added as set forth above.

[FR Doc. C0-23028 Filed 10-2-00; 8:45 am]

BILLING CODE 1505-01-D